DEPARTMENT OF COMMERCE

Foreign-Trade Zones Board

[B-57-2020]

Foreign-Trade Zone (FTZ) 7—Mayaguez, Puerto Rico; Authorization of Production Activity; Patheon Puerto Rico, Inc. (Pharmaceutical Products) Manatí, Puerto Rico

On September 2, 2020, Patheon Puerto Rico, Inc. (Patheon), submitted a notification of proposed production activity to the FTZ Board for its facility within Subzone 7L, in Manatí, Puerto Rico.

The notification was processed in accordance with the regulations of the FTZ Board (15 CFR part 400), including notice in the Federal Register inviting public comment (85 FR 56577—56578). On December 31, 2020, the applicant was notified of the FTZ Board's decision that no further review of the activity is warranted at this time. The production activity described in the notification was authorized, subject to the FTZ Act and the FTZ Board's regulations, including Section 400.14.

Dated: December 31, 2020.
Elizabeth Whiteman,
Acting Executive Secretary.

[FR Doc. 2020-29271 Filed 1-5-21; 8:45 am]

BILLING CODE 3510-DS-P